DEPARTMENT OF COMMERCE

National Oceanic and Atmospheric Administration

50 CFR Part 648

[Docket No. 140822715-4882-02]

RIN 0648-BE37

Magnuson-Stevens Fishery Conservation and Management Act Provisions; Fisheries of the Northeastern United States; Tilefish Fishery; 2015-2017 Specifications

AGENCY: National Marine Fisheries Service (NMFS), National Oceanic and Atmospheric Administration (NOAA), Commerce.

ACTION: Final rule.

SUMMARY: NMFS issues final specifications for the commercial tilefish fishery for the 2015, 2016, and 2017 fishing years. This action establishes the acceptable biological catch, annual catch limit, total allowable landings, and harvest allocations for the individual fishing quota and incidental fishery components of the commercial tilefish fishery. The intent of this action is to establish allowable harvest levels and other management measures to prevent overfishing while allowing optimum yield, consistent with the Magnuson-Stevens Fishery Conservation and Management Act and the Tilefish Fishery Management Plan.

DATES: Effective November 1, 2014.

ADDRESSES: Copies of the specifications document, including the Environmental Assessment (EA) and Initial Regulatory Flexibility Analysis (IRFA) are available upon request from the Mid-Atlantic Fishery Management Council, 800 North State Street, Suite 201, Dover, DE 19901. The specifications document is also accessible via the Internet at: www.greateratlantic.fisheries.noaa.gov. The Final Regulatory Flexibility Analysis (FRFA) consists of the IRFA, public comments and responses contained in this final rule, and the summary of impacts and alternatives contained in this final rule. Copies of the small entity compliance guide are available from John K. Bullard, Regional Administrator, Greater Atlantic Region, National Marine Fisheries Service, 55 Great Republic Drive, Gloucester, MA 01930-2298.

FOR FURTHER INFORMATION CONTACT: Douglas Potts, Fishery Policy Analyst, 978-281-9341.

SUPPLEMENTARY INFORMATION:

Background

The tilefish fishery is managed by the Mid-Atlantic Fishery Management Council under the Tilefish Fishery Management Plan (FMP). The management unit specified in the Tilefish FMP is all tilefish (Lopholatilus chamaeleonticeps) under U.S. jurisdiction in the Atlantic Ocean north of the Virginia/North Carolina border. Regulations implementing the Tilefish FMP appear at 50 CFR part 648, subparts A and N. The FMP and its implementing regulations detail the Council's process for establishing specifications. Fishery specifications for tilefish include catch and landing limits for the commercial tilefish fishery. All requirements of the Magnuson-Stevens Fishery Conservation and Management Act, including the 10 national standards, also apply to specifications.

Detailed background information regarding the status of the tilefish stock and the development of the 2015-2017 specifications for this fishery was provided in the proposed rule to implement these specifications (September 3, 2014; 79 FR 52293). That information is not repeated here.

This action specifies the allowed harvest limits for the commercial tilefish fishery for the 2015, 2016, and 2017 fishing years. The total allowable landings (TAL) for the commercial fishery are divided between Individual Fishing Quota (IFQ) shareholders, which are allocated 95 percent of the TAL, and the incidental fishery, which receives 5 percent of the TAL. Table 1 contains the harvest quotas implemented by this action.

Table 1—Summary of 2015, 2016, and 2017 Harvest Limits for Tilefish Relative to 2014 Limits
| 2014 | 2015 | 2016 | 2017
Overfishing Limit (OFL) | NA | 989 mt | 1,063 mt | 1,091 mt
Acceptable Biological Catch (ABC) | 913 mt | 801 mt | 861 mt | 861 mt
Annual Catch Limit (ACL) | 913 mt | 801 mt | 861 mt | 861 mt
Total Allowable Landings (TAL) | 905 mt | 796 mt | 856 mt | 856 mt
Individual Fishing Quota (IFQ) Fishery ¹ | 1,895,250 lb (859,671 kg) | 1,667,136 lb (756,200 kg) | 1,792,799 lb (813,200 kg) | 1,792,799 lb (813,200 kg)
Incidental Fishery¹ | 99,750 lb (45,246 kg) | 87,744 lb (39,800 kg) | 94,357 lb (42,800 kg) | 94,357 lb (42,800 kg)
¹ Kg are converted from lb, and may not necessarily add exactly due to rounding.

The Council recommended the same quota for 2017 as for 2016, because, even though stock assessment projections indicate that the quota could be increased slightly, the Tilefish FMP has used a constant landings management strategy since it was implemented in 2001. The tilefish industry has been supportive of this approach, and stated that they benefit from the predictability that a stable quota provides. At the urging of the tilefish industry, and because the lower harvest in 2017 would likely support further growth in this stock, the Council decided that the value of quota stability between 2016 and 2017 outweighed the potential gain from the small amount of quota increase that could have been realized in 2017. As in previous years, no tilefish quota has been allocated for research set-aside. The Council has the opportunity to review updated information on the status of the tilefish fishery each year, and may choose to recommend changes to these specifications before the 2016 or 2017 fishing years.

The regulation at § 648.292(b)(1) specifies that the TAL for each fishing year will be 1.995 million lb (905,172 kg), unless modified by the specifications process. If not changed, this default value in the regulations may be confusing, because this action is establishing different TALs for 2015, 2016, and 2017 that would not appear in the regulations. To avoid confusion, this action revises the regulations to remove this reference to a specific TAL value.

Comments and Responses

The public comment period for the proposed rule ended on September 18, 2014. One comment was received on the proposed rule.

Comment: The commenter recommended a more drastic cut in harvest quotas and claimed widespread corruption and collusion between NMFS and the commercial fishing industry.

Response: The commenter presented no clear rationale or evidence supporting the claims. The most recent assessment determined that the tilefish stock is neither overfished, nor subject to overfishing. The Council's recommended harvest quotas were set below the potential harvest limit from the stock assessment in order to account for any scientific uncertainty. Therefore, there is no scientific basis for making changes to the quotas based on this comment. NMFS used the best scientific information available and is approving specifications for the tilefish fishery that are consistent with the FMP, all applicable legal requirements, and the recommendations of the Council.

Classification

Pursuant to section 304(b)(1)(A) of the Magnuson-Stevens Act, the Assistant Administrator for Fisheries, NOAA, has determined that this final rule is consistent with the Tilefish FMP, other provisions of the Magnuson-Stevens Act, and other applicable law.

There is good cause under 5 U.S.C. 553(d)(3) to establish an effective date less than 30 days after date of publication. Avoiding a delay in effectiveness past the start of the 2015 fishing year would avoid confusion and potential economic harm to the commercial tilefish industry. The 2015 tilefish fishing year starts on November 1, 2014. If new specifications are not effective on that date, the regulations at § 648.292(a) state the current harvest quotas would automatically continue into the new fishing year. Therefore, NMFS would be required to issue initial IFQ permits using the 2014 quota amount, and then reissue those permits using the lower 2015 quota once this rule became effective. Representatives of the commercial tilefish industry have been active participants in the Council's development of these specifications, and are anticipating the 2015 quota amount implemented by this action. Issuing two sets of permits based on different quota amounts in a short period of time could cause unnecessary confusion and paperwork for the commercial tilefish industry. If IFQ shareholders fished or leased their allocation in the interim, they could be responsible for a quota overage once the new 2015 quotas became effective. Under the regulations, such an overage would need to be paid back in the following fishing year, which would decrease fishing opportunities in 2016. Because the Council did not submit the EA until late June, NMFS was unable to prepare this rule earlier while still allowing for an appropriate comment period. However, NMFS must also consider the need of the tilefish industry to have adequate prior notice of changes in the harvest quota. As noted above, the commercial tilefish industry has been a participant in the Council's process of developing these specifications and is anticipating these measures. Therefore, the benefits of implementing these quota specifications on November 1, 2014, outweigh the benefit of the 30-day delay in effectiveness.

This final rule has been determined to be not significant for purposes of Executive Order 12866.

This final rule does not duplicate, conflict, or overlap with any existing Federal rules.

The FRFA included in this final rule was prepared pursuant to 5 U.S.C. 604(a), and incorporates the IRFA, a summary of the significant issues raised by the public comments in response to the IRFA, NMFS's responses to those comments, and a summary of the analyses completed to support the action. A copy of the EA/IRFA is analysis is available from the Council (see ADDRESSES).

The preamble to the proposed rule included a detailed summary of the analyses contained in the IRFA, and that discussion is not repeated here.

Final Regulatory Flexibility Analysis

Statement of Objective and Need

A description of the reasons why this action is being taken, and the objectives of and legal basis for this final rule are contained in the preambles to the proposed rule and this final rule and are not repeated here.

Summary of Significant Issues Raised in Public Comment

One comment was submitted on the proposed rule. However, it was not specific to the IRFA or to the economic impacts of the rule more generally. No changes were made from the proposed rule.

Description and Estimate of Number of Small Entities To Which the Rule Will Apply

The Small Business Administration (SBA) defines a small business in the commercial harvesting sector as a firm with receipts (gross revenues) of up to $20.5 million for finfish businesses. A small business in the recreational fishery (i.e., party or charter vessel operations) is a firm with receipts of up to $7.5 million. The 2015, 2016, and 2017 tilefish quotas could affect any vessel holding an active Federal permit for tilefish. Vessel permit data show that in 2013 there were 1,827 vessels that held a valid commercial tilefish permit and 393 vessels held a valid party/charter tilefish permit. However, not all of those vessels are active participants in the fishery. According to dealer-reported landings data, 141 vessels landed tilefish in fishing year 2013. In addition, according to vessel trip report data, 25 party/charter vessels reported catching tilefish in 2013. Changes in quotas under this action are not expected to affect the effort of vessels that land tilefish incidentally (e.g., otter trawl vessels) because the catch and/or landings of tilefish incidentally occur as these vessels target other species, and their fishing behavior is not expected to be driven by the level of the incidental tilefish quota.

Some of the vessels with tilefish permits may be considered to be part of the same firm because they may have the same owners. Firms are classified as finfish or for-hire firms based on the activity from which they derive the most revenue. All of the party/charter firms fall within the definition of a small business according to the 2010-2012 average revenues; however, some of these firms also landed tilefish commercially. If the contribution of tilefish commercial receipts is more than 50 percent of the total, the party/charter firm is considered a commercial operation. Using the $20.5 million cutoff for commercial finfish firms, there are 190 firms that are small and 4 that are large assuming average revenues for the 2010-2012 period. The majority of the permitted vessels readily fall within the definition of small business.

Description of Projected Reporting, Recordkeeping, and Other Compliance Requirements

No additional reporting, recordkeeping, or other compliance requirements are included in this final rule.

Description of the Steps Taken To Minimize Economic Impact on Small Entities

Specification of commercial quota is constrained by the conservation objectives of the FMP and the Magnuson-Stevens Act. The 2015 TAL contained in this final rule is 12 percent lower than the 2014 TAL, while the 2016 and 2017 TALs are 9 percent lower. However, this is the result of the Council's risk policy, which requires an appropriate buffer between the OFL and ABC that, in turn, lowers the TAL compared to 2014. Therefore, these lower catch levels in 2015 are consistent with the best available scientific information and intended to prevent overfishing from occurring.

As described in the proposed rule for this action, two other alternatives were considered that would have resulted in higher vessel revenue than these specifications. The status quo specifications (Alternative 2) were not consistent with the Council's risk policy. Alternative 3 would have increased the TAL in 2017. However, the tilefish industry preferred the same TALs in 2016 and 2017 under these final specifications to maintain stability in the fishery and promote future stock growth, which could lead to increased TALs and associated economic benefits in the future.

All affected IFQ shareholders will receive decreases in their tilefish 2015 IFQ allocations in comparison to their respective tilefish 2014 IFQ allocations. However, the magnitude of the decrease varies depending on the shareholder's relative percent in the total IFQ quota.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, a small entity compliance guide will be sent to all holders of Federal permits issued for the tilefish fishery. In addition, copies of this final rule and guide (i.e., permit holder letter) are available from NMFS (see ADDRESSES) and at the following Web site: www.greateratlantic.fisheries.noaa.gov.

List of Subjects in 50 CFR Part 648

Fisheries, Fishing, Reporting and recordkeeping requirements.

Dated: October 24, 2014.
Samuel D. Rauch III,
Deputy Assistant Administrator for Regulatory Programs, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.292, revise paragraph (b) to read as follows:

§ 648.292 Tilefish specifications.

* * * * *

(b) TAL. (1) The TAL for each fishing year will be specified pursuant to paragraph (a) of this section.

(2) The sum of the TAL and the estimated discards shall be less than or equal to the ACT.

* * * * *

[FR Doc. 2014-25741 Filed 10-24-14; 4:15 pm]

BILLING CODE 3510-22-P